DEPARTMENT OF ENERGY

Federal Energy Regulatory Commission

Combined Notice of Filings No. 2

July 14, 2009.

Take notice that the Commission has received the following Natural Gas Pipeline Rate and Refund Report filings:

Docket Numbers: RP00-632-032.

Applicants: Dominion Transmission, Inc.

Description: Dominion Transmission, Inc. files its Informational Annual Fuel Report.

Filed Date: 06/30/2009.

Accession Number: 20090630-5073.

Comment Date: 5 p.m. Eastern Time on Monday, July 20, 2009.

Docket Numbers: RP09-645-001.

Applicants: Liberty Gas Storage, LLC.

Description: Liberty Gas Storage, LLC submits Substitute Original Sheet 149-A to FERC Gas Tariff, Original Volume 1, to become effective 8/1/09.

Filed Date: 07/09/2009.

Accession Number: 20090713-0162.

Comment Date: 5 p.m. Eastern Time on Tuesday, July 21, 2009.

Docket Numbers: RP09-558-001.

Applicants: Transcontinental Gas Pipe Line Company,

Description: Transcontinental Gas Pipe Line Company, LLC submits additional information re its 4/30/09 tariff filing to establish new Rate Schedules Firm Delivery Lateral Service and Interruptible Delivery Lateral Service, etc.

Filed Date: 07/10/2009.

Accession Number: 20090713-0212.

Comment Date: 5 p.m. Eastern Time on Wednesday, July 22, 2009.

Docket Numbers: RP09-617-001.

Applicants: Viking Gas Transmission Company.

Description: Viking Gas Transmission Company submits Fifth Revised Sheet 10 to FERC Gas Tariff, First Revised Volume 1, to be effective 7/1/09.

Filed Date: 07/10/2009.

Accession Number: 20090713-0164.

Comment Date: 5 p.m. Eastern Time on Wednesday, July 22, 2009.

Docket Numbers: RP09-737-001.

Applicants: Tennessee Gas Pipeline Company.

Description: Tennessee Gas Pipeline Company submits Substitute Fourth Revised Sheet No 412A for inclusion in Tennessee's FERC Gas Tariff, Fifth Revised Volume No 1.

Filed Date: 07/13/2009.

Accession Number: 20090713-0218.

Comment Date: 5 p.m. Eastern Time on Monday, July 27, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis,
Deputy Secretary.

[FR Doc. E9-17367 Filed 7-21-09; 8:45 am]

BILLING CODE 6717-01-P